DEPARTMENT OF JUSTICE

Notice of Lodging of Consent Judgment Pursuant to Comprehensive Environmental Response, Compensation and Liability Act

Notice is hereby given that on January 7, 2009, a proposed Consent Decree in United States v. Alcan Aluminum Corp., Civil No. 7:09cv9, was lodged with the United States District Court for the Northern District of New York.

The proposed Consent Decree resolves cost recovery and civil penalty claims by the United States, on behalf of the U.S. Environmental Protection Agency (“EPA”), against Alcan under sections 106(b)(1) and 107(a) of the Comprehensive Environmental Response, Compensation, and Liability Act of 1980, as amended (“CERCLA”), 42 U.S.C. 9606(b)(1) and 9607(a), in connection with the Sealand Restoration Superfund Site in Lisbon, New York. The proposed Consent Decree provides for Alcan to pay $1,200,000 in reimbursement of EPA's response costs at the Site and $100,000 in civil penalties for Alcan's failure to comply with a CERCLA section 106 administrative order requiring specified cleanup actions at the Site.

The Department of Justice will receive for a period of 30 days from the date of this publication comments relating to the proposed Consent Decree. Comments should be addressed to the Assistant Attorney General of the Environment and Natural Resources Division, and either e-mailed to pubcomment-ees.enrd@usdoj.gov or mailed to P.O. Box 7611, U.S. Department of Justice, Washington, DC 20044-7611, and should refer to United States v. Alcan Aluminum Corp., Civil No. 7:09cv9, D.J. Ref. No. 90-11-3-06953/2.

The proposed Consent Decree may be examined at the Office of the United States Attorney, Northern District of New York, 100 South Clinton Street, Syracuse, New York 13261, and at the United States Environmental Protection Agency, Region II, 290 Broadway, New York, New York 10007-1866. During the public comment period, the proposed Consent Decree may also be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Decree, please enclose a check in the amount of $4.25 (25 cents per page reproduction cost) payable to the U.S. Treasury or, if by e-mail or fax, forward a check in that amount to the Consent Decree Library at the stated address.

Ronald Gluck,
Assistant Section Chief, Environmental Enforcement Section, Environment and Natural Resources Division.

[FR Doc. E9-531 Filed 1-13-09; 8:45 am]

BILLING CODE 4410-15-P